DEPARTMENT OF COMMERCE

International Trade Administration

[A-570-867]

Notice of Preliminary Results of Antidumping Duty Changed Circumstances Review: Automotive Replacement Glass Windshields from the People's Republic of China

AGENCY: Import Administration, International Trade Administration, U.S. Department of Commerce.

ACTION: Notice of Preliminary Results of Antidumping Duty Changed Circumstances Review.

SUMMARY: On March 8, 2004, the Department of Commerce (“Department”) published a notice of initiation of changed circumstances review of the antidumping duty order on Automotive Replacement Glass (“ARG”) Windshields from the People's Republic of China (“PRC”) to determine whether Shenzhen CSG Automotive Glass Co., Ltd. (“Shenzhen CSG”) is the successor-in-interest to Shenzhen Benxun AutoGlass Co., Ltd. (“Shenzhun Benxun”) for purposes of determining antidumping and countervailing duty liabilities. See Initiation of Antidumping Duty Changed Circumstances Review: Automotive Replacement Glass Windshields from the People's Republic of China, 69 FR 10655 (March 8, 2004) (“Notice of Initiation”). We have preliminarily determined that Shenzhen CSG is the successor-in-interest to Shenzhun Benxun, for purposes of determining antidumping duty liability in this proceeding. Interested parties are invited to comment on these preliminary results.

EFFECTIVE DATE: June 7, 2004.

FOR FURTHER INFORMATION CONTACT: Jon Freed or Robert Bolling, Import Administration, International Trade Administration, U.S. Department of Commerce, 14th Street and Constitution Avenue, N.W., Washington, D.C. 20230; telephone (202) 482-3818 or (202) 482-3434, respectively.

SUPPLEMENTARY INFORMATION:

Background

On April 4, 2002, the Department of Commerce (“the Department”) published in the Federal Register the antidumping duty order on ARG windshields from the PRC. See Antidumping Duty Order: Automotive Replacement Glass Windshields from the People's Republic of China, 67 FR 16087 (April 4, 2002). On April 7, 2003, the Department published a notice of opportunity to request an administrative review of the antidumping duty order on ARG windshields from the PRC for the period September 19, 2001 through March 31, 2003. See Antidumping or Countervailing Duty Order, Finding, or Suspended Investigation; Opportunity to Request Administrative Review, 68 FR 16761 (April 7, 2003). On April 30, 2003, the Department received a letter on behalf of Shenzhen CSG Automotive Glass Co., Ltd. (“Shenzhen CSG”) requesting an administrative review of its sales and entries of subject merchandise. In its request, Shenzhen CSG indicated that it had undergone a name change, and that it had formerly been known as Shenzhen Benxun. Shenzhen Benxun was a respondent in the original investigation of this case. The request for review did not include a request for a changed circumstance review to determine whether Shenzhen CSG was in fact a successor in interest to Shenzhen Benxun. On May 21, 2003, in response to timely requests from respondents subject to the order on ARG windshields from the PRC, the Department published in the Federal Register a notice of initiation of an antidumping duty administrative review of sales by ten respondents, including “Shenzhen CSG Automotive Glass Co., Ltd. (formerly known as Shenzhen Benxun AutoGlass Co., Ltd.)” of ARG windshields from the PRC for the period September 19, 2001 through March 31, 2003. See Initiation of Antidumping and Countervailing Duty Administrative Reviews and Request for Revocation in Part, 68 FR 27781 (May 21, 2003). On June 3, 2003, the Department issued antidumping duty questionnaires to the respondents, including “Shenzhen CSG Automotive Glass Co., Ltd. (formerly known as Shenzhen Benxun AutoGlass Co., Ltd.)”. On July 8, 2003, the Department received a letter from “Shenzhen CSG Automotive Glass Co., Ltd. (formerly known as Shenzhen Benxun AutoGlass Co., Ltd.)” withdrawing its request for an administrative review of its sales and entries of subject merchandise exported to the United States and covered by the antidumping duty order on ARG windshields from the PRC. On September 8, 2003, the Department published in the Federal Register a notice of partial rescission of the administrative review on ARG windshields from the PRC, which included a rescission of the administrative review of sales and entries from “Shenzhen CSG Automotive Glass Co., Ltd. (formerly known as Shenzhen Benxun AutoGlass Co., Ltd.)”. On December 29, 2003, the Department instructed Customs and Border Protection (“Customs”) to liquidate entries from Shenzhen Benxun AutoGlass Co., Ltd. at its company-specific rate, but to liquidate entries from Shenzhen CSG Automotive Glass Co., Ltd. at the PRC-wide rate because the Department never had an opportunity to determine whether Shenzhen CSG was a successor-in-interest to Shenzhen Benxun. On January 12, 2004, the Department received a letter on behalf of “Shenzhen CSG Automotive Glass Co., Ltd. (formerly known as Shenzhen Benxun AutoGlass Co., Ltd.)” requesting that the Department amend instructions sent to Customs that direct Customs to liquidate all of Shenzhen CSG's entries at the PRC-wide rate. Shenzhen CSG asserts that Shenzhen Benxun changed its name to Shenzhen CSG and that entries from Shenzhen CSG should be entitled to Shenzhen Benxun's cash deposit rate.

On March 8, 2004, the Department published a notice of initiation of changed circumstances review of the antidumping duty order on ARG Windshields from the PRC to determine whether Shenzhen CSG is the successor-in-interest to Shenzhun Benxun for purposes of determining antidumping liabilities. See Notice of Initiation. On March 17, 2004, the Department issued a Successorship Questionnaire to Shenzhun Benxun. Shenzhen Benxun submitted its response to the Department's Successorship questionnaire on April 6, 2004 (“Shenzhen Benxun's Response”).

Scope of the Review

The products covered by this review are ARG windshields, and parts thereof, whether clear or tinted, whether coated or not, and whether or not they include antennas, ceramics, mirror buttons or VIN notches, and whether or not they are encapsulated. ARG windshields are laminated safety glass (i.e., two layers of (typically float) glass with a sheet of clear or tinted plastic in between (usually polyvinyl butyral)), which are produced and sold for use by automotive glass installation shops to replace windshields in automotive vehicles (e.g., passenger cars, light trucks, vans, sport utility vehicles, etc.) that are cracked, broken or otherwise damaged.

ARG windshields subject to this review are currently classifiable under subheading 7007.21.10.10 of the Harmonized Tariff Schedules of the United States (HTSUS). Specifically excluded from the scope of this investigation are laminated automotive windshields sold for use in original assembly of vehicles. While HTSUS subheadings are provided for convenience and Customs purposes, our written description of the scope of this review is dispositive.

Preliminary Results of the Review

In Shenzhen Benxun's response, Shenzhen Benxun advised the Department that the firm had legally changed its name from Shenzhen Benxun AutoGlass Co., Ltd. to Shenzhen CSG Automotive Glass Co., Ltd.

In antidumping duty changed circumstances reviews involving a successor-in-interest determination, the Department typically examines several factors including, but not limited to, changes in: (1) management; (2) production facilities; (3) supplier relationships; and (4) customer base. See Brass Sheet and Strip from Canada: Notice of Final Results of Antidumping Administrative Review 57 FR 20460, 20462 (May 13, 1992) (“Canada Brass”). While no single factor or combination of factors will necessarily be dispositive, the Department generally will consider the new company to be the successor to the predecessor company if the resulting operations are essentially the same as those of the predecessor company. See Industrial Phosphoric Acid from Israel: Final Results of Changed Circumstances Review 59 FR 6944, 6945 (February 14, 1994), and Canada Brass, 57 FR 20462. Thus, if the record evidence demonstrates that, with respect to the production and sale of the subject merchandise, the new company operates as the same business entity as the predecessor company, the Department may assign the new company the cash deposit rate of its predecessor. See Fresh and Chilled Atlantic Salmon from Norway: Final Results of Changes Circumstances Antidumping Duty Administrative Review 64 FR 9979, 9980 (March 1, 1999).

Our review of the evidence provided by Shenzhen Benxun indicates, preliminarily, that the change in its name has not changed the company's management, production facilities, supplier relationships, or customer base.

Shenzhen Benxun provided copies and translations of the Notification of Name Change issued by the Shenzhen City Industry and Commerce Administrative Bureau. See Shenzhen Benxun's Response at Exhibit 1. Shenzhen Benxun provided copies and translations of the business licenses of both Shenzhen CSG and Shenzhen Benxun issued by the Shenzhen City Industry and Commerce Administrative Bureau. See Shenzhen Benxun's Response at Exhibit 2. The Notification of Name Change and the business licenses establish that the Shenzhen City Industry and Commerce Administrative Bureau recognized Shenzhen Benxun's name change to Shenzhen CSG on September 29, 2002.

Shenzhen Benxun provided detailed organizational charts and lists of directors and managers both prior to and following the change of name to Shenzhen CSG. See Shenzhen Benxun's Response at Exhibit 4. These organizational charts and lists of directors and managers establish that the management and organizational structure of Shenzhen CSG is substantially the same as that of Shenzhen Benxun. Shenzhen Benxun explained that its production has not changed due to the name change. Shenzhen Benxun also noted that its key production managers remained the same both before and after the name change as an indication that the name change had no impact on the production of the company. See Shenzhen Benxun's Response at page 3. Shenzhen CSG's supplier relationships are reflective of those of Shenzhen Benxun as illustrated by the supplier lists provided. See Shenzhen Benxun's Response at Exhibit 5. Finally, Shenzhen Benxun provided the customer lists of both Shenzhen Benxun and Shenzhen CSG, which, while not identical, are sufficiently similar to show no significant change in the customer base. See Shenzhen Benxun's Response at Exhibit 6.

In sum, the evidence now presented by Shenzhen Benxun establishes that Shenzhen CSG is the successor-in-interest to Shenzhen Benxun. The change of name has resulted in minimal changes to the original corporate structure of Shenzhen Benxun as it applies to the production of subject merchandise. Shenzhen CSG's management, production facilities, supplier relationships, sales facilities and customer base are essentially unchanged from those of Shenzhen Benxun. Therefore, the record evidence demonstrates that Shenzhen CSG operates in the same manner as the predecessor company. Consequently, we preliminarily determine that Shenzhen CSG should be given the same antidumping duty treatment as Shenzhen Benxun.

The cash deposit determination from this changed circumstances review will apply to all entries of the subject merchandise entered, or withdrawn from warehouse, for consumption on or after the date of publication of the final results of this changed circumstances review. See Notice of Final Results of Antidumping Duty Changed Circumstances Review: Pressure Sensitive Plastic Tape From Italy 69 FR 15297, 15298 (March 25, 2004), see also, Certain Hot-Rolled Lead and Bismuth Carbon Steel Products From the United Kingdom: Final Results of Changed-Circumstances Antidumping and Countervailing Duty Administrative Reviews 64 FR 66880, 66881 (November 30, 1999). This deposit rate shall remain in effect until publication of the final results of the next administrative review in which Shenzhen CSG participates.

Public Comment

Interested parties are invited to comment on these preliminary results. Parties who submit argument in this proceeding are requested to submit with the argument: (1) a statement of the issue, and (2) a brief summary of the argument. Any interested party may request a hearing within 10 days of the date of publication of this notice. Any hearing, if requested, will be held no later than 25 days after the date of publication of this notice, or the first workday thereafter. Case briefs may be submitted by interested parties not later than 15 days after the date of publication of this notice. Rebuttal briefs, limited to the issues raised in the case briefs, may be filed not later than 20 days after the date of publication of this notice. All written comments shall be submitted in accordance with 19 CFR 351.303. The Department will publish the final results of this changed circumstances review, including its analysis of issues raised in any written comments.

This notice is in accordance with sections 751(b) and 777(i)(1) of the Tariff Act of 1930, as amended, and section 351.221(c)(3)(i) of the Department's regulations.

Dated: May 27, 2004.
James J. Jochum,
Assistant Secretary for Import Administration.

[FR Doc. 04-12806 Filed 6-4-04; 8:45 am]

BILLING CODE 3510-DS-S